FEDERAL ELECTION COMMISSION

Sunshine Act Notices

Date & Time: Tuesday, August 9, 2005 at 10 a.m.

Place: 999 E Street, NW., Washington, DC.

Status: This meeting will be closed to the public.

Items To Be Discussed: Compliance matters pursuant to 2 U.S.C. 437g. Audits conducted pursuant to 2 U.S.C. 437g, 438(b), and Title 26, U.S.C. Matters concerning participation in civil actions or proceedings or arbitration. Internal personnel rules and procedures or matters affecting a particular employee.

FOR FURTHER INFORMATION CONTACT: Mr. Robert Biersack, Press Officer, Telephone: (202) 694-1220.

Darlene Harris,
Deputy Secretary of the Commission.

[FR Doc. 05-15543 Filed 8-2-05; 3:00 pm]

BILLING CODE 6715-01-M